DEPARTMENT OF TRANSPORTATION

Federal Aviation Administration

14 CFR Part 71

[Docket No. FAA-2003-16437; Airspace Docket No. 03-AWP-02]

RIN 2120-AA66

Revision of Federal Airway 137

AGENCY: Federal Aviation Administration (FAA) DOT.

ACTION: Final rule.

SUMMARY: This action revises Federal Airway 137 (V-137) between the Thermal, CA, Very High Frequency Omnidirectional Radio Range and Tactical Air Navigation Aids (VORTAC) intersection and the Imperial, CA, VORTAC. The current route segment between the Thermal, CA, VORTAC and the Imperial, CA, VORTAC is aligned to avoid a restricted area that no longer exists. The FAA is taking this action to realign V-137 to form a direct route between the Thermal, CA, VORTAC, and the Imperial, CA, VORTAC. This action will improve the management of air traffic operations and reduce the route mileage between the Thermal, CA, VORTAC and the Imperial, CA, VORTAC.

EFFECTIVE DATES: 0901 UTC, August 5, 2004.

FOR FURTHER INFORMATION CONTACT: Ken McElroy, Airspace and Rules, Office of System Operations and Safety, ATO-R, Federal Aviation Administration, 800 Independence Avenue, SW., Washington, DC 20591; telephone: (202) 267-8783.

SUPPLEMENTARY INFORMATION:

History

On December 31, 2003, the FAA published in the Federal Register a notice proposing to revise V-137 between the Thermal, CA, VORTAC and the Imperial, CA, VORTAC (68 FR 75473). Interested parties were invited to participate in this rulemaking effort by submitting written comments on the proposal. No comments were received. With the exception of editorial changes, this amendment is the same as that proposed in the notice.

The Rule

The FAA is amending Title 14 Code of Federal Regulations (14 CFR) part 71 (part 71) to revise V-137 between the Thermal, CA, VORTAC, and the Imperial, CA, VORTAC. The current route segment between the Thermal, CA, VORTAC, and the Imperial, CA, VORTAC, is aligned to avoid a restricted area that no longer exists. The FAA is taking this action to realign V-137 to form a direct route between the Thermal, CA, VORTAC, and the Imperial, CA, VORTAC. This action will improve the management of air traffic operations and reduce the route mileage between the Thermal, CA, VORTAC, and the Imperial, CA, VORTAC.

Domestic VOR Federal airways are published in paragraph 6010(a), of FAA Order 7400.9L dated September 2, 2003, and effective September 16, 2003, which is incorporated by reference in 14 CFR 71.1. The VOR Federal airway listed in this document will be published subsequently in the order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This action is categorically excluded from environmental assessments and procedures in accordance with FAA Order 1050.1D, Policies and Procedures for Considering Environmental Impacts, and the National Environmental Policy Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9L, Airspace Designations and Reporting Points, dated September 2, 2003, and effective September 16, 2003, is amended as follows:

Paragraph 6010(a) Domestic VOR Federal Airways

* * * * *

V-137 (Revised)

From Imperial, CA, INT Imperial 350° and Thermal, CA, 144° radials; Thermal; Palm Springs, CA; Palmdale, CA; Gorman, CA; Avenal, CA; Priest, CA; Salinas, CA.

* * * * *

Issued in Washington, DC, May 21, 2004.
Paul Gallant,
Acting Manager, Airspace and Rules, ATO-R.

[FR Doc. 04-12322 Filed 5-28-04; 8:45 am]

BILLING CODE 4910-13-P